FEDERAL DEPOSIT INSURANCE CORPORATION

Agency Information Collection Activities: Submission for OMB Review; Comment Request (3064-0030, -0104 & -0122)

AGENCY: Federal Deposit Insurance Corporation (FDIC).

ACTION: Notice and request for comment.

SUMMARY: The FDIC, as part of its continuing effort to reduce paperwork and respondent burden, invites the general public and other Federal agencies to take this opportunity to comment on the renewal of existing information collections, as required by the Paperwork Reduction Act of 1995. On June 29, 2016, (81 FR 42353), the FDIC requested comment for 60 days on a proposal to renew the information collections described below. No comments were received. The FDIC hereby gives notice of its plan to submit to OMB a request to approve the renewal of these collections, and again invites comment on this renewal.

DATES: Comments must be submitted on or before October 3, 2016.

ADDRESSES: Interested parties are invited to submit written comments to the FDIC by any of the following methods:

• http://www.FDIC.gov/regulations/laws/federal/.

• Email: comments@fdic.gov. Include the name of the collection in the subject line of the message.

• Mail: Manny Cabeza, (202.898.3767), Counsel, Room MB-3007, Federal Deposit Insurance Corporation, 550 17th Street NW., Washington, DC 20429.

• Hand Delivery: Comments may be hand-delivered to the guard station at the rear of the 17th Street Building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, at the FDIC address above.

SUPPLEMENTARY INFORMATION:

Proposal to renew the following currently-approved collections of information:

1. Title: Securities of Insured Nonmember Banks and State Savings Associations.

OMB Number: 3064-0030.

Affected Public: Generally, any issuer of securities, reporting company, or shareholder of an issuer registered under the Securities Exchange Act of 1934 with respect to securities registered under 12 CFR part 335.

Annual Number of Respondents: 396 separate respondents, some filing multiple forms, resulting in 535 estimated total annual responses.

Burden Estimate:

| Estimated number of responses | Hours per response | Frequency of response | Number of responses per year | Estimated burden
Form 3—Initial Statement of Beneficial Ownership | 58 | 1 | On Occasion | 1 | 58
Form 4—Statement of Changes in Beneficial Ownership | 297 | 0.5 | On Occasion | 4 | 594
Form 5—Annual Statement of Beneficial Ownership | 69 | 1 | Annual | 1 | 69
Form 8-A | 2 | 3 | On Occasion | 2 | 12
Form 8-C | 2 | 2 | On Occasion | 1 | 4
Form 8-K | 21 | 2 | On Occasion | 4 | 168
Form 10 | 2 | 215 | On Occasion | 1 | 430
Form 10-C | 1 | 1 | On Occasion | 1 | 1
Form10-K | 21 | 140 | Annual | 1 | 2,940
Form 10-Q | 21 | 100 | Quarterly | 3 | 6,300
Form 12b-25 | 6 | 3 | On Occasion | 1 | 18
Form 15 | 2 | 1 | On Occasion | 1 | 2
Form 25 | 2 | 1 | On Occasion | 1 | 2
Schedule 13D | 2 | 3 | On Occasion | 1 | 6
Schedule 13E-3 | 2 | 3 | On Occasion | 1 | 6
Schedule 13G | 2 | 3 | On Occasion | 1 | 6
Schedule 14A | 21 | 40 | Annual | 1 | 840
Schedule 14C | 2 | 40 | On Occasion | 1 | 80
Schedule 14D-1 (Schedule TO) | 2 | 5 | On Occasion | 1 | 10
Totals | 535 |  |  |  | 11,546

General Description: Section 12(i) of the Securities Exchange Act of 1934, as amended, (the “Exchange Act”) grants authority to the Federal banking agencies to administer and enforce Sections 10A(m), 12, 13, 14(a), 14(c), 14(d), 14(f), and 16 of the Exchange Act and Sections 302, 303, 304, 306, 401(b), 404, 406, and 407 of the Sarbanes-Oxley Act of 2002. Pursuant to Section 12(i), the FDIC has the authority, including rulemaking authority, to administer and enforce these enumerated provisions as may be necessary with respect to state nonmember banks and state savings associations over which it has been designated the appropriate Federal banking agency. Section 12(i) generally requires the FDIC to issue regulations substantially similar to those issued by the Securities and Exchange Commission (“SEC”) to carry out these responsibilities. Thus, Part 335 of the FDIC regulations incorporates by cross-reference the SEC rules and regulations regarding the disclosure and filing requirements of registered securities of state nonmember banks and state savings associations. This information collection includes the following:

Beneficial Ownership Forms: FDIC Forms 3, 4, and 5 (FDIC Form Numbers 6800/03, 6800/04, and 6800/05.) Pursuant to Section 16 of the Exchange Act, every director, officer, and owner of more than ten percent of a class of equity securities registered with the FDIC under Section 12 of the Exchange Act must file with the FDIC a statement of ownership regarding such securities. The initial filing is on Form 3 and changes are reported on Form 4. The Annual Statement of beneficial ownership of securities is on Form 5. The forms contain information on the reporting person's relationship to the company and on purchases and sales of such equity securities. 12 CFR Sections 335.601 through 336.613 of the FDIC's regulations, which cross-reference 17 CFR 240.16a of the SEC's regulations, provide the FDIC form requirements for FDIC Forms 3, 4, and 5 in lieu of SEC Forms 3, 4, and 5, which are described at 17 CFR 249.103 (Form 3), 249.104 (Form 4), and 249.105 (Form 5).

Forms 8-A and 8-C for Registration of Certain Classes of Securities. Form 8-A is used for registration of any class of securities of any issuer which is required to file reports pursuant to Section 13 or 15(d) of the Exchange Act, pursuant to Section 12(b) or (g) of the Exchange Act, or pursuant to an order exempting the exchange on which the issuer has securities listed from registration as a national securities exchange. Form 8-C has been replaced by Form 8-A. Form 8-A is described at 17 CFR 249.208a.

Form 8-K: Current Report. This is the current report that is used to report the occurrence of any material events or corporate changes that are of importance to investors or security holders and have not been reported previously by the registrant. It provides more current information on certain specified events than would Forms 10-Q and 10-K. The form description is at 17 CFR 249.308.

Forms 10 and 10-C: Forms for Registration of Securities. Form 10 is the general reporting form for registration of securities pursuant to section 12(b) or (g) of the Exchange Act, of classes of securities of issuers for which no other reporting form is prescribed. It requires certain business and financial information about the issuer. Form 10-C has been replaced by Form 10. Form 10 is described at 17 CFR 249.210.

Form 10-K: Annual Report. This annual report is used by issuers registered under the Exchange Act to provide information described in Regulation S-K, 17 CFR 229. The form is described at 17 CFR 249.310.

Form 10-Q: Quarterly Reports. The Form 10-Q is a report filed quarterly by most reporting companies. It includes unaudited financial statements and provides a continuing overview of major changes in the company's financial position during the year, as compared to the prior corresponding period. The report must be filed for each of the first three fiscal quarters of the company's fiscal year and is due within 40 or 45 days of the close of the quarter, depending on the size of the reporting company. The description of Form 10-Q is at 17 CFR 249.308a.

Form 12b-25: Notification of Late Filing. This notification extends the reporting deadlines for filing quarterly and annual reports for qualifying companies. The form is described at 17 CFR 249.322.

Form 15: Certification and Notice of Termination of Registration. This form is filed by each issuer to certify that the number of holders of record of a class of security registered under section 12(g) of the Exchange Act is reduced to a specified level in order to terminate the registration of the class of security. For a bank, the number of holders of record of a class of registered security must be reduced to less than 1,200 persons. For a savings association, the number of record holders of a class of registered security must be reduced to (1) less than 300 persons or (2) less than 500 persons and the total assets of the issuer have not exceeded $10 million on the last day of each of the issuer's most recent three fiscal years. In general, registration terminates 90 days after the filing of the certification. This form is described at 17 CFR 249.323.

Schedule 13D: Certain Beneficial Ownership Changes. This Schedule discloses beneficial ownership of certain registered equity securities. Any person or group of persons who acquire a beneficial ownership of more than 5 percent of a class of registered equity securities of certain issuers must file a Schedule 13D reporting such acquisition together with certain other information within ten days after such acquisition. Moreover, any material changes in the facts set forth in the Schedule generally precipitates a duty to promptly file an amendment on Schedule 13D. The SEC's rules define the term beneficial owner to be any person who directly or indirectly shares voting power or investment power (the power to sell the security). This schedule is described at 17 CFR 240.13d-101.

Schedule 13E-3: Going Private Transactions by Certain Issuers or Their Affiliates. This schedule must be filed if an issuer engages in a solicitation subject to Regulation 14A or a distribution subject to Regulation 14C, in connection with a going private merger with its affiliate. An affiliate and an issuer may be required to complete, file, and disseminate a Schedule 13E-3, which directs that each person filing the schedule state whether it reasonably believes that the Rule 13e-3 transaction is fair or unfair to unaffiliated security holders. This schedule is described at 17 CFR 240.13e-100.

Schedule 13G: Certain Acquisitions of Stock. Certain acquisitions of stock that are more than 5 percent of an issuer's stock must be reported to the public. Schedule 13G is a much abbreviated version of Schedule 13D that is only available for use by a limited category of persons (such as banks, broker/dealers, and insurance companies) and even then only when the securities were acquired in the ordinary course of business and not with the purpose or effect of changing or influencing the control of the issuer. This schedule is described at 17 CFR 240.13d-102.

Schedule 14A: Proxy Statements. State law governs the circumstances under which shareholders are entitled to vote. When a shareholder vote is required and any person solicits proxies with respect to securities registered under Section 12 of the Exchange Act, that person generally is required to furnish a proxy statement containing the information specified by Schedule 14A. The proxy statement is intended to provide shareholders with the proxy information necessary to enable them to vote in an informed manner on matters intended to be acted upon at shareholders' meetings, whether the traditional annual meeting or a special meeting. Typically, a shareholder is also provided with a proxy card to authorize designated persons to vote his or her securities on the shareholder's behalf in the event the holder does not vote in person at the meeting. Copies of preliminary and definitive (final) proxy statements and proxy cards are filed with the FDIC. The description of this schedule is at 17 CFR 240.14a-101.

Schedule 14C: Information Required in Information Statements. An information statement prepared in accordance with the requirements of the SEC's Regulation 14C is required whenever matters are submitted for shareholder action at an annual or special meeting when there is no proxy solicitation under the SEC's Regulation 14A. This schedule is described at 17 CFR 240.14c-101.

Schedule 14D-1: Tender Offer. This schedule is also known as Schedule TO. Any person, other than the issuer itself, making a tender offer for equity securities registered pursuant to Section 12 of the Exchange Act, is required to file this schedule if acceptance of the offer would cause that person to own over 5 percent of that class of the securities. This schedule must be filed and sent to various parties, such as the issuer and any competing bidders. In addition, the SEC's Regulation 14D sets forth certain requirements that must be complied with in connection with a tender offer. This schedule is described at 17 CFR 240.14d-100.

2. Title: Activities and Investments of Savings Associations.

OMB Number: 3064-0104.

Affected Public: Insured financial institutions.

Estimated Number of Respondents: 19.

Frequency of Response: On occasion.

Estimated annual Burden Hours per Response: 12 hours.

Total Estimated Annual Burden: 228 hours.

General Description of Collection: Section 28 of the FDI Act (12 U.S.C. 1831e) imposes restrictions on the powers of savings associations, which reduce the risk of loss to the deposit insurance funds and eliminate some differences between the powers of state associations and those of federal associations. Some of the restrictions apply to all insured savings associations and some to state chartered associations only. The statute exempts some federal savings banks and associations from the restrictions, and provides for the FDIC to grant exemptions to other associations under certain circumstances. In addition, Section 18(m) of the FDI Act (12 U.S.C. 1828(m)) requires that notice be given to the FDIC prior to an insured savings association (state or federal) acquiring, establishing, or conducting new activities through a subsidiary.

3. Title: Forms Relating to FDIC Outside Counsel Legal Support and Expert Services Programs.

OMB Number: 3064-0122.

Affected Public: Entities providing legal and expert services to the FDIC.

Frequency of Response: On occasion.

Estimated Number of Respondents and Burden Hours:

FDIC Document No. | Estimated number of respondents | Estimated hours per response | Hours of burden
5000/26 | 85 | 0.5 | 42.5
5000/31 | 376 | 0.5 | 188
5000/33 | 63 | 0.5 | 31.5
5000/35 | 722 | 0.5 | 361
5200/01 | 500 | 0.75 | 375
5210/01 | 100 | 0.5 | 50
5210/02 | 55 | 0.5 | 27.5
5210/03 | 50 | 1 | 50
5210/03A | 50 | 1 | 50
5210/04 | 200 | 1 | 200
5210/04A | 200 | 1 | 200
5210/06 | 100 | 1 | 100
5210/06(A) | 100 | 1 | 100
5210/08 | 240 | 0.5 | 120
5210/09 | 100 | 1 | 100
5210/10 | 100 | 1 | 100
5210/10(A) | 100 | 1 | 100
5210/11 | 100 | 1 | 100
5210/12 | 100 | 1 | 100
5210/12A | 100 | 1 | 100
5210/14 | 100 | 0.5 | 50
5210/15 | 25 | 0.5 | 12.5
Total | 3,556 |  | 2,558

General Description: The information collected enables the FDIC to ensure that all individuals, businesses and firms seeking to provide legal support services to the FDIC meet the eligibility requirements established by Congress. The information is also used to manage and monitor payments to contractors, document contract amendments, expiration dates, billable individuals, minority law firms, and to ensure that law firms, experts, and other legal support services providers comply with statutory and regulatory requirements.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology. All comments will become a matter of public record.

Dated at Washington, DC, this 30th day of August, 2016.
Federal Deposit Insurance Corporation.
Robert E. Feldman,
Executive Secretary.

[FR Doc. 2016-21176 Filed 9-1-16; 8:45 am]

BILLING CODE 6714-01-P